DEPARTMENT OF VETERANS AFFAIRS

[OMB Control No. 2900-0669]

Proposed Information Collection (Claim for Credit of Annual Leave) Activity: Comment Request

AGENCY: Human Resources Management, Department of Veterans Affairs.

ACTION: Notice.

SUMMARY: The Human Resources Management (HRM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to this notice. This notice solicits comments on information needed to process current and former employee's claims for restored annual leave charged on a non-workday while on military active duty.

DATES: Written comments and recommendations on the proposed collection of information should be received on or before January 16, 2015.

ADDRESSES: Submit written comments on the collection of information through the Federal Docket Management System (FDMS) at www.Regulations.gov or to Jean Hayes, Human Resources and Administration (05), Department of Veterans Affairs, 810 Vermont Avenue NW., Washington, DC 20420 or email: jean.hayes@va.gov. Please refer to “OMB Control No. 2900-0669” in any correspondence.

FOR FURTHER INFORMATION CONTACT: Jean Hayes at (202) 461-7863.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, HRM invites comments on: (1) Whether the proposed collection of information is necessary for the proper performance of HRM's functions, including whether the information will have practical utility; (2) the accuracy of HRM's estimate of the burden of the proposed collection of information; (3) ways to enhance the quality, utility, and clarity of the information to be collected; and (4) ways to minimize the burden of the collection of information on respondents, including through the use of automated collection techniques or the use of other forms of information technology.

Title: Claim for Credit of Annual Leave, VA Form 0862.

Type of Review: Extension of a currently approved collection.

OMB Control Number: 2900-0669.

Abstract: Current and former employee's who were charged annual leave on a non-workday while on active military duty complete VA Form 0862 to request restoration of annual leave. Those employees who separated or retired from VA will receive a lump sum payment for any reaccredited annual leave. The claimant must provide documentation supporting the period that he or she were on active military duty during the time for which they were charged annual leave on a non-workday.

Affected Public: Individuals or households and Federal Government.

Estimated Annual Burden: 3,375 hours.

Estimated Average Burden per Respondent: 15 minutes.

Frequency of Response: One-time.

Estimated Number of Respondents: 13,501.

Dated: November 10, 2014.
By direction of the Secretary.
Crystal Rennie,
Department of Clearance Officer, Department of Veterans Affairs.

[FR Doc. 2014-27028 Filed 11-14-14; 8:45 am]

BILLING CODE 8320-01-P